FEDERAL DEPOSIT INSURANCE CORPORATION

12 CFR Parts 303 and 337

RIN 3064-AE94

Unsafe and Unsound Banking Practices: Brokered Deposits Restrictions; Extension of Comment Period

AGENCY: Federal Deposit Insurance Corporation (FDIC).

ACTION: Notice of proposed rulemaking: Extension of comment period.

SUMMARY: On February 10, 2020, the FDIC published in the Federal Register a Notice of Proposed Rulemaking (NPR) entitled “Unsafe and Unsound Banking Practices: Brokered Deposits Restrictions,” proposing revisions to its regulations relating to the brokered deposits restrictions that apply to less than well capitalized insured depository institutions. The NPR provided for a 60-day comment period, which would have closed on April 10, 2020. The FDIC has determined that an extension of the comment period until June 9, 2020, is appropriate. This action will allow interested parties additional time to analyze the proposal and prepare comments.

DATES: The comment period for the brokered deposits-related NPR published on February 10, 2020 (85 FR 7453),¹ is extended from April 10, 2020, to June 9, 2020.

¹ 85 FR 7453 (Feb. 10, 2020).

ADDRESSES: You may submit comments, identified by RIN 3064-AE94, on the notice of proposed rulemaking using any of the following methods:

• Agency website: https://www.fdic.gov/regulations/laws/federal/. Follow the instructions for submitting comments on the agency website.

• Email: comments@fdic.gov. Include “RIN 3064-AE94” in the subject line.

• Mail: Robert E. Feldman, Executive Secretary, Attention: Comments/RIN 3064-AE94, Federal Deposit Insurance Corporation, 550 17th Street NW, Washington, DC 20429.

• Hand Delivery: Comments may be hand delivered to the guard station at the rear of the 550 17th Street NW building (located on F Street) on business days between 7 a.m. and 5 p.m.

• Public Inspection: All comments received, including any personal information provided, will be posted generally without change to https://www.fdic.gov/regulations/laws/federal.

FOR FURTHER INFORMATION CONTACT: Division of Risk Management Supervision: Rae-Ann Miller, Associate Director, (202) 898-3898, rmiller@fdic.gov. Legal Division: Vivek V. Khare, Counsel, (202) 898-6847, vkhare@fdic.gov.

SUPPLEMENTARY INFORMATION: On February 10, 2020, the FDIC published in the Federal Register ² an NPR proposing revisions to the brokered deposits-related regulations implementing Section 29 of the FDI Act.³

² 85 FR 7453.

³ 12 U.S.C. 1831f.

The NPR stated that the comment period would close on April 10, 2020. The FDIC has received requests to extend the comment period. An extension of the comment period will provide additional opportunity for the public to prepare comments to address the matters raised by the NPR. Therefore, the FDIC is extending the comment period for the brokered deposits-related NPR from April 10, 2020, to June 9, 2020.

Federal Deposit Insurance Corporation.
Dated at Washington, DC, on April 2, 2020.
Robert E. Feldman,
Executive Secretary.

[FR Doc. 2020-07322 Filed 4-7-20; 8:45 am]

BILLING CODE 6714-01-P